DEPARTMENT OF ENERGY

Proposed Agency Information Collection Extension

AGENCY: U.S. Department of Energy.

ACTION: Notice and request for OMB review and comment.

SUMMARY: The Department of Energy (DOE) has submitted to the Office of Management and Budget (OMB) for clearance, a proposal for collection of information under the provisions of the Paperwork Reduction Act of 1995. The submission seeks a three year extension to the original collection.

DATES: Comments regarding this proposed collection must be received on or before October 11, 2013. If you anticipate that you will be submitting comments, but find it difficult to do so within the period of time allowed by this notice, please advise the DOE Desk Officer at Office of Management and Budget (OMB) of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503.

And to

Mark Westergard, U.S. Department of Energy, LPO-7-, Room 4B-160, 1000 Independence Avenue SW., Washington, DC 20585 or by fax at 202-287-6949, or by email at LPO.PaperworkReductionAct.Comments@hq.doe.gov.

FOR FURTHER INFORMATION CONTACT: Requests for additional information or copies of the information collection instrument and instructions should be directed to Mark Westergard, LPO.PaperworkReductionAct.Comments@hq.doe.gov.

SUPPLEMENTARY INFORMATION: This information collection request contains: (1) Information Collection Request Title: 10 CFR Part 609—Loan Guarantees for Projects that Employ Innovative Technologies; (2) Type of Request: Reinstatement (3) Purpose: This information collection package covers collection of information necessary to evaluate applications for loan guarantees submitted under Title XVII of the Energy Policy Act of 2005, as amended, 42 U.S.C. 16511-16516. Applications for loan guarantees submitted to DOE in response to a solicitation must contain certain information. This information will be used to analyze whether a project is eligible for a loan guarantee and to evaluate the application under criteria specified in 10 CFR Part 609. The collection of this information is critical to ensure that the government has sufficient information to determine whether applicants meet the eligibility requirements to qualify for a DOE loan guarantee and to provide DOE with sufficient information to evaluate an applicant's project using the criteria specified in 10 CFR Part 609; (5) Annual Estimated Number of Respondents: 100 Pre-Applications/10 Full Applications; (6) Annual Estimated Number of Total Responses: It is estimated that the total number of annual responses will not exceed 100; (7) Annual Estimated Number of Burden Hours: 13,000 hours, most of which is likely to be time committed by firms that seek debt and/or equity financing for their projects, regardless of their intent to apply for a DOE loan guarantee; (8) Annual Estimated Reporting and Recordkeeping Cost Burden: It is estimated that the annual estimated reporting and recordkeeping cost burden for applicants will not exceed $25,000 per annum.

Authority: Title XVII of the Energy Policy Act of 2005 42 U.S.C. 16511-16516.

Issued in Washington, DC, on September 5, 2013.
David G. Frantz,
Acting Executive Director, Loan Programs Office.

[FR Doc. 2013-22117 Filed 9-10-13; 8:45 am]

BILLING CODE 6450-01-P